DEPARTMENT OF ENERGY

Federal Energy Regulatory Commission

Combined Notice of Filings

Take notice that the Commission has received the following Natural Gas Pipeline Rate and Refund Report filings:

Filings Instituting Proceedings

Docket Numbers: RP17-1026-000.

Applicants: Iroquois Gas Transmission System, L.P.

Description: Section 4(d) Rate Filing: 09/06/17 Negotiated Rates—Direct Energy Business Marketing, LLC R-7465-07 to be effective 11/1/2017.

Filed Date: 9/6/17.

Accession Number: 20170906-5047.

Comments Due: 5 p.m. ET 9/18/17.

Docket Numbers: RP17-1027-000.

Applicants: Iroquois Gas Transmission System, L.P.

Description: Section 4(d) Rate Filing: 09/06/17 Negotiated Rates—ENSTOR Energy Services, LLC R-7305-02 to be effective 11/1/2017.

Filed Date: 9/6/17.

Accession Number: 20170906-5048.

Comments Due: 5 p.m. ET 9/18/17.

Docket Numbers: RP17-1028-000.

Applicants: Iroquois Gas Transmission System, L.P.

Description: Section 4(d) Rate Filing: 09/06/17 Negotiated Rates—Consolidated Edison Company of New York R-560-16 to be effective 11/1/2017.

Filed Date: 9/6/17.

Accession Number: 20170906-5049.

Comments Due: 5 p.m. ET 9/18/17.

Docket Numbers: RP17-1029-000.

Applicants: Iroquois Gas Transmission System, L.P.

Description: Section 4(d) Rate Filing: 09/06/17 Negotiated Rates—Hartree Partners, LP (HUB) 7090-89 to be effective 11/1/2017.

Filed Date: 9/6/17.

Accession Number: 20170906-5131.

Comments Due: 5 p.m. ET 9/18/17.

Docket Numbers: RP17-1030-000.

Applicants: Equitrans, L.P.

Description: Compliance filing Notice Regarding Non-Jurisdictional Gathering Facilities (PEB-371 & PEG-82).

Filed Date: 9/6/17.

Accession Number: 20170906-5148.

Comments Due: 5 p.m. ET 9/18/17.

Docket Numbers: RP17-1031-000.

Applicants: Florida Public Utilities Company, CITY OF PENSACOLA, FLORIDA.

Description: Joint Petition for Temporary Waivers of Capacity Release Regulations and Related Tariff Provisions and Request for Expedited Action and Shortened Comment Period of Florida Public Utilities Company, et al. under RP17-1031.

Filed Date: 9/7/17.

Accession Number: 20170907-5196.

Comments Due: 5 p.m. ET 9/14/17.

Docket Numbers: RP11-2473-000.

Applicants: Gulf South Pipeline Company, LP.

Description: Report Filing: 2016 Cash Pool Filing.

Filed Date: 9/8/17.

Accession Number: 20170908-5071.

Comments Due: 5 p.m. ET 9/20/17.

Docket Numbers: RP11-2474-000.

Applicants: Gulf Crossing Pipeline Company LLC.

Description: Report Filing: 2016 Cash Pool Filing.

Filed Date: 9/8/17.

Accession Number: 20170908-5072.

Comments Due: 5 p.m. ET 9/20/17.

Docket Numbers: RP17-1032-000.

Applicants: Iroquois Gas Transmission System, L.P.

Description: Section 4(d) Rate Filing: 09/08/17 Negotiated Rates—Twin Eagle Resource Management R-7300-06 to be effective 11/1/2017.

Filed Date: 9/8/17.

Accession Number: 20170908-5074.

Comments Due: 5 p.m. ET 9/20/17.

Docket Numbers: RP17-1033-000.

Applicants: Iroquois Gas Transmission System, L.P.

Description: Section 4(d) Rate Filing: 09/08/17 Negotiated Rates—Mercuria Energy America, Inc. R-7540-12 to be effective 11/1/2017.

Filed Date: 9/8/17.

Accession Number: 20170908-5078.

Comments Due: 5 p.m. ET 9/20/17.

Docket Numbers: RP17-1034-000.

Applicants: Rockies Express Pipeline LLC.

Description: Section 4(d) Rate Filing: Neg Rate 2017-09-07 Triad Hunter (2) to be effective 9/8/2017.

Filed Date: 9/8/17.

Accession Number: 20170908-5109.

Comments Due: 5 p.m. ET 9/20/17.

Docket Numbers: RP17-1035-000.

Applicants: National Fuel Gas Supply Corporation.

Description: Section 4(d) Rate Filing: Minor Revisions and Housekeeping Changes (2017) to be effective 10/8/2017.

Filed Date: 9/8/17.

Accession Number: 20170908-5152.

Comments Due: 5 p.m. ET 9/20/17.

Docket Numbers: RP17-974-001.

Applicants: Garden Banks Gas Pipeline, LLC.

Description: Tariff Amendment: Garden Banks Supplemental LINK Filing to be effective 10/1/2017.

Filed Date: 9/8/17.

Accession Number: 20170908-5069.

Comments Due: 5 p.m. ET 9/15/17.

Docket Numbers: RP17-976-001.

Applicants: Mississippi Canyon Gas Pipeline, L.L.C.

Description: Tariff Amendment: Miss Canyon LINK Supplemental Filing to be effective 10/1/2017.

Filed Date: 9/8/17.

Accession Number: 20170908-5070.

Comments Due: 5 p.m. ET 9/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2017.
Nathaniel J. Davis, Sr.
Deputy Secretary.

[FR Doc. 2017-19724 Filed 9-15-17; 8:45 am]

BILLING CODE 6717-01-P